DEPARTMENT OF LABOR

Employment and Training Administration

[TA-W-52,235]

Honeywell Nylon, Inc., Including Leased Workers of Base Corporation Fiber Division, Anderson, South Carolina; Amended Certification Regarding Eligibility To Apply for Worker Adjustment Assistance

In accordance with Section 223 of the Trade Act of 1974 (19 U.S.C. 2273) the Department of Labor issued a Certification of Eligibility to Apply for Worker Adjustment Assistance on August 1, 2003, applicable to workers of Honeywell Nylon, Inc., Anderson, South Carolina. The notice was published in the Federal Register on August 18, 2003 (68 FR 49523).

At the request of the State agency, the Department reviewed the certification for workers of the subject firm. The workers are engaged in the production of nylon fibers.

Information provided by the company shows that all employees of the Anderson, South Carolina location of the subject firm are leased employees of BASF Corporation, Fiber Division.

Information also shows that workers separated from employment at the subject firm had their wages reported under a separate unemployment insurance (UI) tax account for BASF Corporation.

Based on these findings, the Department is amending this certification to include temporary workers of BASF Corporation, Fiber Division working at Honeywell Nylon, Inc., Anderson, North Carolina.

The intent of the Department's certification is to include all workers of Honeywell Nylon, Inc. who was adversely affected by increased imports.

The amended notice applicable to TA-W-52,235 is hereby issued as follows:

All workers of Honeywell Nylon, Inc., including leased workers of BASF Corporation, Fiber Division, Anderson, South Carolina, who became totally or partially separated from employment on or after July 7, 2002, through August 1, 2005, are eligible to apply for adjustment assistance under Section 223 of the Trade Act of 1974.

Signed at Washington, DC this 10th day of September 2003.
Richard Church,
Certifying Officer, Division of Trade Adjustment Assistance.

[FR Doc. 03-25707 Filed 10-9-03; 8:45 am]

BILLING CODE 4510-30-P